DEPARTMENT OF ENERGY

Federal Energy Regulatory Commission

Combined Notice of Filings #1

Take notice that the Commission received the following electric corporate filings:

Docket Numbers: EC12-88-000

Applicants: Everpower Wind Holdings, Inc., Alta Wind VI, LLC

Description: Application for Authorization for Disposition of Jurisdictional Facilities and Request for Expedited Action of Alta Wind VI, LLC, et al.

Filed Date: 3/29/12

Accession Number: 20120329-5251

Comments Due: 5 p.m. ET 4/19/12

Take notice that the Commission received the following electric rate filings:

Docket Numbers: ER11-4625-001

Applicants: Colton Power L.P.

Description: Supplement to Updated Market Power Analysis of Colton Power L.P.

Filed Date: 3/29/12

Accession Number: 20120329-5247

Comments Due: 5 p.m. ET 4/19/12

Docket Numbers: ER12-857-002

Applicants: Pacific Gas and Electric Company

Description: Compliance Filing to Correct the 3rd Amendment to the PWRPA IA and WDT SA to be effective 1/23/2012.

Filed Date: 3/29/12

Accession Number: 20120329-5226

Comments Due: 5 p.m. ET 4/19/12

Docket Numbers: ER12-1114-001

Applicants: ITC Midwest LLC

Description: Supplemental Filing for ITC-Northeast Power-IPL Transmission Agreement to be effective 5/29/2012.

Filed Date: 3/29/12

Accession Number: 20120329-5223

Comments Due: 5 p.m. ET 4/19/12

Docket Numbers: ER12-1291-001

Applicants: Wellhead Power Delano, LLC

Description: Wellhead Power Delano, LLC Market-Based Rate Tariff to be effective 5/10/2012.

Filed Date: 3/29/12

Accession Number: 20120329-5213

Comments Due: 5 p.m. ET 4/19/12

Docket Numbers: ER12-1384-000

Applicants: Entergy Arkansas, Inc.

Description: LGCC to be effective 6/1/2012.

Filed Date: 3/29/12

Accession Number: 20120329-5152

Comments Due: 5 p.m. ET 4/19/12

Docket Numbers: ER12-1385-000

Applicants: Entergy Gulf States Louisiana, L.L.C.

Description: LGCC to be effective 6/1/2012.

Filed Date: 3/29/12

Accession Number: 20120329-5160

Comments Due: 5 p.m. ET 4/19/12

Docket Numbers: ER12-1386-000

Applicants: Entergy Louisiana, LLC

Description: LGCC to be effective 6/1/2012.

Filed Date: 3/29/12

Accession Number: 20120329-5161

Comments Due: 5 p.m. ET 4/19/12

Docket Numbers: ER12-1387-000

Applicants: Entergy Mississippi, Inc.

Description: LGCC to be effective 6/1/2012.

Filed Date: 3/29/12

Accession Number: 20120329-5162

Comments Due: 5 p.m. ET 4/19/12

Docket Numbers: ER12-1388-000

Applicants: Entergy New Orleans, Inc.

Description: LGCC to be effective 6/1/2012.

Filed Date: 3/29/12

Accession Number: 20120329-5166

Comments Due: 5 p.m. ET 4/19/12

Docket Numbers: ER12-1389-000

Applicants: ISO New England Inc., New England Power Pool Participants Committee

Description: MR1 Revisions to Auditing Demand Resources to be effective 6/1/2012.

Filed Date: 3/29/12

Accession Number: 20120329-5170

Comments Due: 5 p.m. ET 4/19/12

Docket Numbers: ER12-1390-000

Applicants: Entergy Texas, Inc.

Description: LGCC to be effective 6/1/2012.

Filed Date: 3/29/12

Accession Number: 20120329-5186

Comments Due: 5 p.m. ET 4/19/12

Docket Numbers: ER12-1391-000

Applicants: Michigan Electric Transmission Company, LLC

Description: Filing of a Certificate of Concurrence to be effective 3/22/2012.

Filed Date: 3/29/12

Accession Number: 20120329-5206

Comments Due: 5 p.m. ET 4/19/12

Docket Numbers: ER12-1392-000

Applicants: ISO New England Inc., New England Power Pool Participants Committee

Description: Rev. to FCM Rules Related to Demand Resource Performance Incentives to be effective 6/1/2012.

Filed Date: 3/29/12

Accession Number: 20120329-5215

Comments Due: 5 p.m. ET 4/19/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2012.
Nathaniel J. Davis, Sr.,
Deputy Secretary.

[FR Doc. 2012-8303 Filed 4-5-12; 8:45 am]

BILLING CODE 6717-01-P